DEPARTMENT OF DEFENSE

Department of the Army

Army Science Board; Notice of an Open Meeting

In accordance with section 10(a)(2) of the Federal Advisory Committee Act (P.L. 92-463), announcement is made of the following Committee Meeting:

Name of Committee: Army Science Board (ASB)—Power Panel.

Date of Meeting: 12 June 2001.

Time of Meeting: 0800-1600, 12 June 2001.

Place: Natich, Ma.

Agenda: The Army Science Board's (ASB) Summer Study Panel—Power will meet for discussions on the study subject. Any interested person may attend, appear before, or file statements with the committee at the time and manner permitted by the committee. These meetings will be open to the public. For further information, please contact LTC Thomas A. McWhorter. (757) 788-2859.

Wayne Joyner,
Executive Assistant, Army Science Board.

[FR Doc. 01-13764 Filed 5-31-01; 8:45 am]

BILLING CODE 3710-08-M